DEPARTMENT OF THE TREASURY

Submission for OMB Review; Comment Request

October 5, 2004.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW. Washington, DC 20220.

Dates: Written comments should be received on or before November 12, 2004 to be assured of consideration.

Internal Revenue Service (IRS)

OMB Number: 1545-1201.

Regulation Project Numbers: REG-152549-03 NPRM and Temporary; and PS-52-88 Final.

Type of Review: Extension.

Title: REG-152549-03 NPRM and Temporary: Section 179 Elections; and PS-52-88 Final: Election to Expense Certain Depreciable Business Assets.

Description: The regulations provide rules on the election described in section 179(b)(4); the apportionment of the dollar limitation among component members of a controlled group; the proper order for deducting the carryover of disallowed deduction; and the maintenance of information which permits the specific identification of each piece of section 179 property and reflects how and from whom such property was acquired and when such property was placed in service. The recordkeeping and reporting is necessary to monitor compliance with the section 179 rules.

Respondents: Business of other for-profit, Individuals or households, farms.

Estimated Number of Respondents/Recordkeepers: 4,035,000.

Estimated Burden Hours Respondent/Recordkeeper: 45 minutes.

Frequency of response: Annually, Other (once).

Estimated Total Reporting/Recordkeeping Burden: 3,022,500 hours.

Clearance Officer: Paul H. Finger, (202) 622-4078. Internal Revenue Service, Room 6516, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 04-22916 Filed 10-12-04; 8:45 am]

BILLING CODE 4830-01-P